DEPARTMENT OF JUSTICE

Antitrust Division

Notice Pursuant to the National Cooperative Research and Production Act of 1993—Society of Cable Telecommunications Engineers

Notice is hereby given that, ,on September 20, 2004, pursuant to section 6(a) of the National Cooperative Research and Production Act of 1993, 15 U.S.C. 4301 et seq. (“the Act”), Society of Cable Telecommunications Engineers (“SCTE”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Society of Cable Telecommunications Engineers, Exton, PA. The nature and scope of SCTE's standards development activities are: the development of standards, specifications, and technical reports in the field of cable telecommunications. Standardization topics include, but are not limited to, definitions and terminology; methods of measurement and test; products; systems, technology rating structures; thermal limits and applications guides; recommended practices; materials; and safety.

Dorothy B. Fountain,
Deputy Director of Operations, Antitrust Division.

[FR Doc. 04-23538 Filed 10-20-04; 8:45 am]

BILLING CODE 4410-11-M